DEPARTMENT OF LABOR

Employment and Training Administration

Notice of Determinations Terminating Investigations of Petitions Regarding Eligibility To Apply for Worker Adjustment Assistance

In accordance with Section 223 of the Trade Act of 1974, as amended (19 U.S.C. 2273) the Department of Labor herein presents summaries of determinations terminating investigations of petitions regarding eligibility to apply for trade adjustment assistance for workers by (TA-W-) number issued during the period of September 15, 2009 through February 4, 2010. After notice of the petitions was published in the Federal Register and on the Department's Web site, as required by Section 221 of the Act (19 U.S.C. 2271), the Department initiated investigations of these petitions.

The following determinations terminating investigations were issued because the petitioning groups of workers are covered by certifications. Consequently, further investigation in these cases would serve no purpose since the petitioning groups of workers cannot be covered by more than one certification at a time.

TA-W-70,094: Premier Manufacturing Support Services, Inc., Princeton, Indiana, covered by TA-W-61,608, as amended: Personnel Management, Inc., including on-site leased workers from Premier Manufacturing Support Services, Inc., Princeton, Indiana.

TA-W-70,156: Henkel Corp., Canton, Massachusetts, covered by TA-W-70,153B; Henkel Corp., Canton, Massachusetts.

TA-W-70,157; Henkel Corp., City of Industry, California, covered by TA-W-70,153: Henkel Corp., City of Industry, California.

TA-W-70,441: Lionbridge, Corvallis, Oregon, covered by TA-W-63,939, as amended: Hewlett Packard, including on-site leased workers from Lionbridge, Corvallis, Oregon.

TA-W-70,846: Thomasville Furniture, Winston-Salem, North Carolina, covered by TA-W-70,833: Thomasville Furniture, Winston-Salem, North Carolina.

TA-W-71,092: Neocork Technologies, Conover, North Carolina, covered by TA-W-70,429: Neocork Technologies, Conover, North Carolina.

TA-W-71,126: Lam Research, Eugene, Oregon, covered by TA-W-63,747, as amended: Hynix Semiconductor, including on-site leased workers from Lam Research Corp., Eugene, Oregon.

TA-W-71,192: Auto Truck Transport, Mount Holly, North Carolina, covered by TA-W-70,018: Auto Truck Transport, Mount Holly, North Carolina.

TA-W-71,197: RM Mechanical, Boise, Idaho, covered by TA-W-72,023A, as amended: Micron Technology, Inc., including on-site leased workers from RM Mechanical, Boise, Idaho.

TA-W-71,198: Robinson Solutions, Working on-Site at Chrysler LLC, St. Louis North Assembly Plant, Fenton, Missouri, covered by TA-W-63,052, as amended: Chrysler LLC, St. Louis North Assembly Plant, including on-site leased workers from Robinson Solutions, Fenton, Missouri.

TA-W-71,198A: Robinson Solutions, Working On-Site at Chrysler LLC, St. Louis South Assembly Plant, Fenton, Missouri, covered by TA-W-62,438, as amended: Chrysler LLC, St. Louis South Assembly Plant, including on-site leased workers from Robinson Solutions, Fenton, Missouri.

TA-W-71,227: Dream Clean, Inc., Piney Flats, Tennessee, covered by TA-W-62,882, as amended: Glaxosmithkline, including on-site leased workers from Dream Clean, Inc., Bristol, Tennessee.

TA-W-71,264: Aviza Technology, Inc., Scotts Valley, California, covered by Quimonda 200MM facility, including on-site leased workers from Aviza Technology, Sandston, Virginia.

TA-W-71,589: Hart Schaffner and Marx, Cape Giradeau, Missouri, covered by TA-W-64,153: Hart Schaffner and Marx, Cape Giradeau, Missouri.

TA-W-71,639: Pad Leasing Associates, working on-site at Newton Transportation Company, Inc., Hudson, North Carolina, covered by TA-W-71,531: Pad Leasing Associates, working on-site at Newton Transportation Company, Inc., Hudson, North Carolina.

TA-W-71,696: Health Net, Inc., Tigard, Oregon, covered by TA-W-70,166N: Health Net, Inc., Tigard, Oregon.

TA-W-71,792: Intel Corporation, Rio Rancho, New Mexico, covered by TA-W-63,952: Intel Corporation, Rio Rancho, New Mexico.

TA-W-71,879: Kenco Group, Webster City, Iowa, covered by TA-W-72,778: Kenco Group, Webster City, Iowa.

TA-W-71,925: Eastman Kodak Company, Windsor, Colorado, covered by TA-W-71,786: Eastman Kodak Company, Windsor, Colorado.

TA-W-72,077: Perry Slingsby Systems, Inc., Jupiter, Florida, covered by TA-W-72,003: Perry Slingsby Systems, Inc., Jupiter, Florida.

TA-W-72,372: Kaiser Permanente, Corona, California, covered by TA-W-71,894: Kaiser Permanente, Corona, California.

TA-W-72,432: Matthew Bender and Company, Inc., Bellevue, Washington, covered by TA-W-72,431C: Matthew Bender and Company, Inc., Bellevue, Washington.

TA-W-72,433; LexisNexis, New Providence, New Jersey, covered by TA-W-72,431B: LexisNexis, New Providence, New Jersey.

TA-W-72,694: Amdocs, Inc., CABS Billing Group, St. Louis, Missouri, covered by TA-W-70,738, as amended: Amdocs, Inc., St. Louis, Missouri, including employees working off site.

TA-W-72,758: Wacker Chemical Corporation, Allentown, Pennsylvania, covered by TA-W-70,221A: Wacker Chemical Corporation, Allentown, Pennsylvania.

TA-W-72,940: EDS, an HP Company, Alpharetta, Georgia, covered by TA-W-70,163, as amended: EDS, an HP Company, Charlotte, North Carolina including an off-site employee working out of Alpharetta, Georgia.

I hereby certify that the aforementioned determinations were issued during the period of September 15, 2009 through February 4, 2010. Copies of these terminations are available for inspection in Room N-5428, U.S. Department of Labor, 200 Constitution Avenue, NW., Washington, DC 20210 during normal business hours or will be mailed to persons who write to the above address. These determinations also are available on the Department's Web site at www.doleta/tradeact under the searchable listing of determinations.

Dated: April 14, 2010.
Elliott S. Kushner,
Certifying Officer, Division of Trade Adjustment Assistance.

[FR Doc. 2010-9349 Filed 4-21-10; 8:45 am]

BILLING CODE 4510-FN-P